DEPARTMENT OF ENERGY

Federal Energy Regulatory Commission

Combined Notice of Filings #1

Take notice that the Commission received the following electric rate filings:

Docket Numbers: ER10-2179-016; ER10-2181-016; ER10-2182-016.

Applicants: R.E. Ginna Nuclear Power Plant, LLC, Nine Mile Point Nuclear Station, LLC, Calvert Cliffs Nuclear Power Plant, LLC.

Description: Notice of Non-Material Change in Status of the CENG Nuclear Entities.

Filed Date: 1/31/13.

Accession Number: 20130131-5411.

Comments Due: 5 p.m. ET 2/21/13.

Docket Numbers: ER10-2984-009.

Applicants: Merrill Lynch Commodities, Inc.

Description: Merrill Lynch Commodities, Inc. submits Notice of Non-Material Change in Status.

Filed Date: 1/31/13.

Accession Number: 20130131-5395.

Comments Due: 5 p.m. ET 2/21/13.

Docket Numbers: ER12-2178-004; ER10-2172-015; ER12-2311-004; ER11-2016-010; ER10-2184-015; ER10-2183-012; ER10-1048-012 ER10-2176-016; ER10-2192-015; ER11-2056-009; ER10-2178-015; ER10-2174-015; ER11-2014-012; ER11-2013-012 ER10-3308-014; ER10-1020-011; ER10-1145-011; ER10-1144-010; ER10-1078-011; ER10-1080-011; ER11-2010-012 ER10-1081-011; ER10-2180-015; ER11-2011-011; ER12-2201-004; ER12-2528-003; ER11-2009-011; ER11-3989-009 ER10-1143-011; ER11-2780-009; ER12-1829-004; ER11-2007-010; ER12-1223-009; ER11-2005-012.

Applicants: AV Solar Ranch 1, LLC, Baltimore Gas and Electric Company, Beebe Renewable Energy, LLC, Cassia Gulch Wind Park, LLC, CER Generation II, LLC, CER Generation, LLC, Commonwealth Edison Company, Constellation Energy Commodities Group, Inc., Constellation Energy Commodities Group Maine, LLC, Constellation Mystic Power, LLC, Constellation NewEnergy, Inc., Constellation Power Source Generation, Inc., Cow Branch Wind Power, L.L.C., CR Clearing, LLC, Criterion Power Partners, LLC, Exelon Framingham, LLC, Exelon Generation Company, LLC, Exelon New Boston, LLC, Exelon West Medway, LLC, Exelon Wind 4, LLC, Exelon Wyman, LLC, Handsome Lake Energy, LLC, Harvest Windfarm, LLC, Harvest II Windfarm LLC, High Mesa Energy, LLC, Michigan Wind 1, LLC, Michigan Wind 2, LLC, PECO Energy Company, Safe Harbor Water Power Corporation, Shooting Star Wind Project, LLC, Tuana Springs Energy, LLC, Wildcat Wind, LLC, Wind Capital Holdings, LLC.

Description: Notice of Non-Material Change in Status of AV Solar Ranch 1, LLC, et al.

Filed Date: 1/31/13.

Accession Number: 20130131-5414.

Comments Due: 5 p.m. ET 2/21/13.

Docket Numbers: ER13-859-000.

Applicants: ALLETE, Inc.

Description: ALLETE, Inc. submits a Notice of Termination of a Stated Rate, Full Requirements Agreement with the City of Nashwauk, Minnesota.

Filed Date: 1/31/13.

Accession Number: 20130131-5404.

Comments Due: 5 p.m. ET 2/21/13.

Take notice that the Commission received the following electric securities filings:

Docket Numbers: ES11-25-001.

Applicants: Entergy Arkansas, Inc.

Description: Entergy Arkansas, Inc. submits Application for Extension of Authorization to Consent to Borrowings in Connection with Nuclear Fuel Lease and Request for Waiver of Competitive Bidding Requirements.

Filed Date: 1/31/13.

Accession Number: 20130131-5408.

Comments Due: 5 p.m. ET 2/21/13.

Docket Numbers: ES11-27-001; ES11-26-001; ES11-28-001; ES11-29-001 ES11-30-003.

Applicants: Entergy Gulf States Louisiana, L.L.C.

Description: Joint Application of Entergy Gulf States Louisiana, L.L.C. for Extension of Authorizations under Federal Power Act Section 204.

Filed Date: 1/31/13.

Accession Number: 20130131-5412.

Comments Due: 5 p.m. ET 2/21/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2013.
Nathaniel J. Davis, Sr.,
Deputy Secretary.

[FR Doc. 2013-03155 Filed 2-11-13; 8:45 am]

BILLING CODE 6717-01-P